DEPARTMENT OF THE INTERIOR

Bureau of Land Management

[OR-110-6332-DC; HAG-03-0274]

Notice of Availability of the Rogue National Wild and Scenic River: Hellgate Recreation Area Management Plan and Record of Decision

AGENCY: Bureau of Land Management, Interior.

ACTION: Notice of availability.

SUMMARY: Notice is hereby given that the Bureau of Land Management (BLM), Medford District Office, Grants Pass Resource Area has prepared and approved the Rogue National Wild and Scenic River: Hellgate Recreation Area Management Plan and Record of Decision (RAMP/ROD) for the 27-mile stretch of the recreation section of the Rogue National Wild and Scenic River located in southern Josephine County, Oregon. The Rogue River was one of eight rivers identified as part of the National Wild and Scenic Rivers System when the Wild and Scenic Rivers Act was passed in 1968. The Wild and Scenic Rivers Act of 1968 established the wild and scenic rivers system (Pub. L. 90-542 and 99-590). The Wild and Scenic Rivers Act (WSRA) established a method for providing federal protection for certain remaining free-flowing rivers and preserving them and their immediate environments.

The Proposed Action (Alternative E), as analyzed in the FEIS, with minor decision changes resulting from public comments, are selected as the Record of Decision (ROD). It responds to issues raised during scoping and to public comments. It is a composite of various elements of the five alternatives (A to E) considered and analyzed in the Final EIS. The RAMP does the following: (1) Provides protection and enhancement of the outstandingly remarkable values while concurrently attaining the widest range of neutral and beneficial uses of the environment without degradation, (2) maintains an environment that supports diverse recreational opportunities, (3) integrates resource protection with an appropriate range of visitor uses, (4) contributes economically to the local communities, and (5) provides multi-resource standards and direction found in other legislation, policies, or management plans that are designed to comply with applicable State and Federal laws.

The RAMP and ROD are signed by the District Manager and the Grants Pass Field Manager and will become effective upon publication of this notice. The RAMP and ROD have been prepared in accordance with section 202 of the National Environmental Policy Act of 1969 (NEPA), the Federal Land Policy and Management Act of 1976 (FLPMA), and BLM management policies. The RAMP and ROD conforms with the management direction contained in the 1995 Medford District Record of Decision and Resource Management Plan (RMP) and does not amend that plan.

DATES: Effective date of this decision is the date of this publication notice.

This decision may be appealed to the Interior Board of Land Appeals, Office of the Secretary, in accordance with the regulations contained in 43 CFR Part 4. Any parties adversely affected by this decision have the right to appeal within 30 days of publication of this notice.

ADDRESSES: Abbie Jossie, Grants Pass Field Manager, or Chris Dent, Rogue River Manager, Grants Pass Resource Area, Bureau of Land Management, Medford District Office, 3040 Biddle Road, Medford, Oregon 97504.

FOR FURTHER INFORMATION CONTACT: Copies of the RAMP and ROD are available at the Medford District Office or by contacting the Planning Team Leader, Cori Cooper, at (541) 618-2428 or Cori_Cooper@or.blm.gov; or it is located on the District's Web site at: www.or.blm.gov/Medford. Copies of the document are available for inspection at the BLM Oregon State Office Public Room during regular business hours (333 SW 1st Avenue, Portland, Oregon 97204, (503) 808-6001, 8:30 a.m.-4 p.m.).

SUPPLEMENTARY INFORMATION: The purpose of the RAMP and ROD is to: (1) Replace the 1978 Rogue National Wild and Scenic River Activity Plan for the Hellgate Recreation Section of the Rogue National Wild and Scenic River; (2) provide management direction and guidance on the management of the Hellgate section pursuant to the Wild and Scenic Rivers Act of 1968 (Pub. L. 90-542, October 2, 1968); and (3) maintain and manage a mix of water-based visitor use activities and users common to the river since its designation in 1968 as a National Wild and Scenic River, while protecting and enhancing the environment and the outstandingly remarkable values: Natural scenic quality, fisheries, and recreation opportunities.

Public participation has occurred throughout the planning process. A Notice of Intent was published in the Federal Register on October 1, 1993 and the Draft EIS Notice of Availability was published in the Federal Register on November 24, 2000. Public comments were solicited during scoping and through a 90-day comment period for the Draft EIS. The Final EIS Notice of Availability was published in the Federal Register on March 21, 2003 and was available to the public for 30 days.

Timothy B. Reuwsaat,
District Manager, BLM Medford District Office.

[FR Doc. 04-15604 Filed 7-15-04; 8:45 am]

BILLING CODE 4310-JB-P